AGENCY FOR INTERNATIONAL DEVELOPMENT

Senior Executive Service: Membership of Performance Review Board

ACTION: Notice.

SUMMARY: The following persons are members of the 2006 Senior Executive Service Performance Review Board:

Gloria Steele, Chair, James Painter, Harry Manchester.

FOR FURTHER INFORMATION CONTACT: Darren Shanks, 202-712-5685.

Dated: January 25, 2007.
Darren Shanks,
Executive and Labor Relations.

[FR Doc. E7-1476 Filed 1-29-07; 8:45 am]

BILLING CODE 6116-01-P